SMALL BUSINESS ADMINISTRATION

[Declaration of Disaster #3528, Amdt. 1]

State of Ohio

In accordance with the notice received from the Department of Homeland Security—Federal Emergency Management Agency, effective July 11, 2003, the above numbered declaration is hereby amended to establish the incident period for this disaster as beginning on July 4, 2003 and continuing through July 11, 2003.

All other information remains the same, i.e., the deadline for filing applications for physical damage is September 15, 2003, and for economic injury the deadline is April 15, 2004.

(Catalog of Federal Domestic Assistance Program Nos. 59002 and 59008).
Dated: July 23, 2003.
Herbert L. Mitchell,
Associate Administrator for Disaster Assistance.

[FR Doc. 03-19262 Filed 7-28-03; 8:45 am]

BILLING CODE 8025-01-P